DEPARTMENT OF STATE

[Public Notice 3582]

U.S. Advisory Commission on Public Diplomacy; Notice of Meeting

The U.S. Advisory Commission on Public Diplomacy, reauthorized pursuant to P.L. 106-113 (H.R. 3194, Consolidated Appropriations Act, 2000), will meet on Tuesday, March 13, 2001, in Room 600, 301 4th St., SW., Washington, DC from 9:30 a.m. to 12:00 Noon.

The Commission will discuss FSI training programs on public diplomacy, public diplomacy in the Far East, and the Smith-Mundt Act.

Members of the general public may attend the meeting, though attendance of public members will be limited to the seating available. Access to the building is controlled, and individual building passes are required for all attendees. Persons who plan to attend should contact David J. Kramer, Executive Director, at (202) 619-4463.

Dated: February 22, 2001.
David J. Kramer,
Executive Director, U.S. Advisory Commission on Public Diplomacy, U.S. Department of State.

[FR Doc. 01-5765 Filed 3-2-01; 8:45 am]

BILLING CODE 4710-11-U